DEPARTMENT OF ENERGY

Federal Energy Regulatory Commission

[Project No. 2165-015]

Alabama Power Company; Notice of Draft License Application and Preliminary Draft Environmental Assessment (PDEA) and Request for Preliminary Terms and Conditions

December 17, 2004.

Take notice that the following hydroelectric application has been filed with the Commission and is available for public inspection.

a. Type of Application: New major license.

b. Project No.: P-2165-015.

c. Applicant: Alabama Power Company.

d. Name of Project: Warrior River Hydroelectric Project, which includes the Lewis Smith and Bankhead Developments.

e. Location: The Lewis Smith development is located in northwestern Alabama in the headwaters of the Black Warrior River on the Sipsey Fork in Cullman, Walker, and Winston counties. The Bankhead development is located in central Alabama downstream of the Lewis Smith development, on the Black Warrior River in Tuscaloosa County.

f. Applicant Contact: Mr. R.M. Akridge, Hydro General Manager, Alabama Power Company, 600 North 18th Street, P.O. Box 2641, Birmingham, AL 35291-8180.

g. FERC Contact: Ronald McKitrick, (770) 452-2272, E-mail: ronald.mckitrick@ferc.gov.

h. Alabama Power Company distributed a copy of the Warrior PDEA and Draft License Application to interested parties at a public meeting on December 8, 2004 and mailed copies on December 10, 2004 to those not attending the December 8th meeting. The Commission received a copy of the Warrior PDEA and Draft License Application on December 10, 2004.

i. Status of Project: With this notice the Commission is soliciting (1) preliminary terms, conditions, and recommendations on the PDEA, and (2) comments on the PDEA and the Draft Application.

j. Deadline for Filing: March 10, 2005.

All comments on the Warrior PDEA and Draft Application should be sent to the addresses noted above in Item (f), with one copy filed with FERC at the following address: Magalie R. Salas, Secretary, Federal Energy Regulatory Commission, 888 First Street, NE., Washington, DC 20426. All comments must include the project name (Warrior River Hydroelectric Project) and number and bear the heading “Preliminary Comments, Preliminary Recommendations, Preliminary Terms and Conditions, or Preliminary Prescriptions.”

Comments and preliminary recommendations, terms and conditions, and prescriptions may be filed electronically via the Internet in lieu of paper. See 18 CFR 385.2001(a)(1)(iii) and the instructions on the Commission's Web site (http://www.ferc.gov) under the “e-Filing” link.

k. A copy of the application is on file with the Commission and is available for public inspection. This filing may also be viewed on the Web at http://www.ferc.gov using the “RIMS” link—select “Docket #” and follow the instructions (call 202-208-2222 for assistance).

Alabama Power Company has mailed a copy of the Preliminary DEA and Draft Application to interested entities and parties. Copies of these documents are available by contacting Alabama Power Company's relicensing Web site at http://www.southernco.com/alpower/hydro or by calling (205) 257-4265 or by e-mailing JFCREW@southerco.com or (205) 257-1268 or by e-mailing BKLOVETT@southernco.com.

l. With this notice, we are initiating consultation with the Alabama STATE HISTORIC PRESERVATION OFFICER (SHPO), as required by Section 106, National Historic Preservation Act, and the regulations of the Advisory Council on Historic Preservation, 36 CFR 800.4.

Magalie R. Salas,
Secretary.

[FR Doc. E4-3817 Filed 12-23-04; 8:45 am]

BILLING CODE 6717-01-P